DEPARTMENT OF THE TREASURY

Submission for OMB Review; Comment Request

June 16, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW. Washington, DC 20220.

DATES: Written comments should be received on or before July 22, 2009 to be assured of consideration.

Internal Revenue Service (IRS)

OMB Number: 1545-1254.

Type of Review: Extension.

Title: Conclusive Presumption of Wothlessness of Debts Held by Banks (FI-34-91) (Final).

Description: Paragraph (d)(3) of section 1.166-2 of the regulations allows banks and thrifts to elect to conform their tax accounting for bad debts with their regulatory accounting. An election, or revocation thereof, is a change in method of accounting. The collection of information required in section 1.166-2(d)(3) is necessary to monitor the elections.

Respondents: Businesses or other for-profits.

Estimated Total Burden Hours: 50 hours.

Clearance Officer: R. Joseph Durbala (202) 622-3634, Internal Revenue Service, Room 6516, 1111 Constitution Avenue, NW., Washington, DC 20224.

OMB Reviewer: Shagufta Ahmed (202) 395-7873, Office of Management and Budget, Room 10235, New Executive Office Building, Washington, DC 20503.

Celina Elphage,
Treasury PRA Clearance Officer.

[FR Doc. E9-14587 Filed 6-19-09; 8:45 am]

BILLING CODE 4830-01-P